DEPARTMENT OF JUSTICE

Notice of Lodging Proposed Consent Decree

In accordance with Departmental Policy, 28 CFR 50.7, notice is hereby given that a proposed consent decree in United States v. IMC Phosphates Co., Civil Action No. 8:03-cv-1814-T-17MSS (M.D. Fla.), was lodged with the United States District Court for the Middle District of Florida on August 27, 2003. This proposed Consent Decree concerns a complaint filed by the United States of America against IMC Phosphates Co., pursuant to Section 301 of the Clean Water Act, 33 U.S.C. 1311(a), to obtain injunctive relief from and impose civil penalties against the Defendant for self-reported violations of the terms and conditions of Clean Water Act section 404 permits for three properties located in Polk, Hardee and Hillsborough Counties, Florida. The proposed Consent Decree prohibits IMC Phosphates Co. from discharging any pollutant into waters of the United States, unless such discharge complies with the provisions of the Clean Water Act and its implementing regulations, requires restoration and monitoring of the impacted sites as well as preservation of a 139-acre parcel and the payment of a civil penalty.

The Department of Justice will accept written comments relating to this proposed Consent Decree for thirty (30) days from the date of publication of this notice. Please address comments to Daniel W. Eckhart, Assistant U.S. Attorney, 80 N. Hughey Avenue, Suite 201, Orlando, Florida and refer to DJ# 90-5-1-4-05140 and civil action number 8:03-cv-1814-T-17MSS.

The proposed Consent Decree may be examined at the Clerk's Office, United States District Court for the Middle District of Florida, 80 North Huhey Avenue, Orlando, Florida. In addition, the proposed Consent Decree may be viewed on the World Wide Web at http://www.usdoj/gov/enrd/open.html.

Daniel W. Eckhart,
Assistant United States Attorney, United States Attorney's Office, Orlando, Florida.

[FR Doc. 03-23073 Filed 9-9-03; 8:45 am]

BILLING CODE 4410-15-M